DEPARTMENT OF HOMELAND SECURITY

Coast Guard

33 CFR Part 165

[CGD01-05-085]

RIN 1625-AA00

Safety Zone; Blasting Operations, Demolition of Bridge Piers: Sikorsky Bridge Over the Housatonic River Between Stratford and Milford, CT

AGENCY: Coast Guard, DHS.

ACTION: Temporary final rule.

SUMMARY: The Coast Guard is establishing a temporary safety zone within 300-yards of the Sikorsky Bridge, which runs between Milford and Stratford, CT. This temporary safety zone is necessary to protect the maritime community transiting the area from the potential safety hazards associated with the demolition and blasting operations of the piers of the old Sikorsky Bridge. Entry into this zone is prohibited unless authorized by the Captain of the Port, Long Island Sound, New Haven, Connecticut.

DATES: This rule is effective from 6 a.m. September 26, 2005 through 6 p.m. October 6, 2005.

ADDRESSES: Comments and material received from the public, as well as documents indicated in this preamble as being available in the docket, are part of docket CGD01-05-085 and are available for inspection or copying at Coast Guard Sector Long Island Sound, New Haven, CT, between 9 a.m. and 3 p.m., Monday through Friday, except Federal holidays.

FOR FURTHER INFORMATION CONTACT: Lieutenant A. Logman, Chief, Waterways Management Division, Coast Guard Sector Long Island Sound at (203) 468-4429.

SUPPLEMENTARY INFORMATION:

Regulatory Information

We did not publish a notice of proposed rulemaking (NPRM) for this regulation. Under 5 U.S.C. 553(b)(B), the Coast Guard finds that good cause exists for not publishing an NPRM. The Coast Guard was notified by the bridge owner, Connecticut Department of Transportation, of the dates of blasting and demolition operations on August 24, 2005, leaving insufficient time to draft and publish an NPRM and to publish a final rule more than 30 days prior to the effective date. Under 5 U.S.C. (d)(3), the Coast Guard finds that good cause exists for making this rule effective in less than 30 days after publication in the Federal Register. Any delay in the effective date of this rule would be contrary to the public interest as immediate action is necessary to close a portion of the Housatonic River within the vicinity of the Sikorsky Bridge to protect the maritime public from the hazards associated with blasting and debris removal operations for four piers from the old Sikorsky Bridge.

Background and Purpose

The Connecticut Route 15 Bridge over the Housatonic River, also known as the Sikorsky Bridge, is currently being rebuilt. Part of this process has included the demolition of the old Sikorsky Bridge. Piers from the old Bridge remain as hazards to navigation in the waterway and must be removed prior to further construction of the southern span of the new bridge. When detonated, spread of the debris will be minimized by a containment structure around each bridge pier. The blasting and demolition activities have been approved by the Connecticut Department of Environmental Protection to conduct blasting operations. This blasting will also require a Coast Guard explosives handling permit in accordance with 46 Code of Federal Regulations Part 176 as the explosives being used are being loaded onto vessels prior to being placed on the respective piers. The explosives loads onto vessels will be monitored by Coast Guard personnel.

Discussion of Rule

This rule establishes a temporary safety zone on all waters within 300-yards of the Piers of the old Sikorsky Bridge, Route 15 Bridge over the Housatonic River running between Milford and Stratford, CT. This action is intended to prohibit entry of persons and vessel traffic in a portion of the Housatonic River for the protection of life and property of the maritime public from the potential hazards associated with blasting operations and demolition of four piers of the old Sikorsky Bridge. The safety zone will be in effect for approximately 8 days; however, the zone will only be enforced for approximately four-30 minute periods during the blasting of each of the four bridge piers being demolished. Public notifications will be made of this safety zone via marine information broadcasts beginning 1 hour prior to the detonation of the explosives for each of the four piers. The detonations will take place during daylight hours, and will be conducted during high tide.

Any violation of the safety zone described herein, is punishable by, among others, civil and criminal penalties, in rem liability against the offending vessel, and license sanctions.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. This rule may have some impact on the public, but these potential impacts will be minimized for the following reasons: This zone covers only a portion of the waters of the Housatonic River, and does not impact commercial vessels. Although this safety zone is in effect for 8 days, the safety zone will only be enforced during blasting operations, encompassing approximately 4 thirty minute periods over the 8 days.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: The owners or operators of vessels intending to transit or anchor in those portions of the Housatonic River that are covered by the safety zone.

For the reasons outlined in the Regulatory Evaluation section above, this rule will not have a significant impact on a substantial number of small entities.

If you think that your business, organization, or governmental jurisdiction qualifies as a small entity and that this rule would have a significant economic impact on it, please submit a comment (see ADDRESSES) explaining why you think it qualifies and how and to what degree this rule would economically affect it.

Assistance for Small Entities

Under subsection 213(a) of the Small Business Regulatory Enforcement Fairness Act of 1996 [Pub. L. 104-121], the Coast Guard wants to assist small entities in understanding this rule so that they can better evaluate its effects on them and participate in the rulemaking. If this rule would affect your small business, organization, or governmental jurisdiction and you have questions concerning its provisions or options for compliance, please call Lieutenant A. Logman, Chief, Waterways Management Division, Sector Long Island Sound, at (203) 468-4429.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not concern an environmental risk to health or risk to safety that may disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

The Coast Guard analyzed this rule under Commandant Instruction M16475.1D, which guides the Coast Guard in complying with the National Environmental Policy Act of 1969 (NEPA) 42 U.S.C. 4321-4370f), and have concluded that there are no factors in this case that would limit the use of a categorical exclusion under section 2.B.2 of the Instruction. Therefore, this rule is categorically excluded, under figure 2-1, paragraph (34)(g) from further environmental documentation. This rule fits the category selected from paragraph (34)(g), as it establishes a safety zone. An Environmental Analysis Checklist and Categorical Exclusion Determination are available for review at the location listed under “ADDRESSES”.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1225 and 1231; 46 U.S.C. Chapter 701; 50 U.S.C. 191, 195; 33 CFR 1.05-1(g), 6.04-1, 6.04-6, and 160.5; Pub. L. 107-295, 116 Stat. 2064; Department of Homeland Security Delegation No. 0170.1.

2. From 6 a.m. on September 26, 2005, until 6 p.m. on October 6, 2005, add temporary § 165.T01-085 to read as follows:

§ 165.T01-085 Safety Zone: Blasting operations, demolition of bridge piers: Sikorsky Bridge over the Housatonic River between Stratford and Milford, CT.

(a) Location. All waters of the Housatonic River within 300 yards of the Sikorsky Bridge, over Route 15 between Stratford and Milford, CT.

(b) Enforcement period. The safety zone will be enforced from 6 a.m. on September 26, 2005 until 6 p.m. on September 29, 2005, and from 6 a.m. on October 3, 2005, until 6 p.m. on October 6, 2005.

(c) Regulations. (1) In accordance with the general regulations in 165.23 of this part, entry into or movement within this zone is prohibited unless authorized by the Captain of the Port (COTP), Long Island Sound.

(2) All persons and vessels must comply with the Coast Guard Captain of the Port or designated on-scene patrol personnel. On-scene Coast Guard patrol personnel include commissioned, warrant, and petty officers of the Coast Guard on board Coast Guard, Coast Guard Auxiliary, and local, state, and Federal law enforcement vessels. Upon being hailed by siren, radio, flashing light or other means from a U.S. Coast Guard vessel or other vessel with on-scene patrol personnel aboard, the operator of the vessel shall proceed as directed.

Dated: September 9, 2005.
Peter J. Boynton,
Captain, U.S. Coast Guard, Captain of the Port, Long Island Sound.

[FR Doc. 05-18937 Filed 9-21-05; 8:45 am]

BILLING CODE 4910-15-P